DEPARTMENT OF LABOR

Employment and Training Administration

[TA-W-38,636]

Cookson Pigments, Inc., Newark, NJ; Notice of Negative Determination Regarding Application for Reconsideration

By application of April 18, 2001, the company requested administrative reconsideration of the Department's negative determination regarding eligibility for workers and former workers of the subject firm to apply for Trade Adjustment Assistance (TAA). The denial notice applicable to workers of Cookson Pigments, Inc., Newark, New Jersey, was issued on March 12, 2001, and was published in the Federal Register on April 16, 2001 (66 FR 19520).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petitioner request states that the worker were retained for the purpose of decommissioning and the demolition of the subject facility. The petitioner requests Trade Adjustment Assistance eligibility for the worker group based on the initial Trade Adjustment Assistance certification which expired on June 6, 1999. Production ceased at the subject plant during October 1998. The workers have not produced a product since October 1998, and therefore, are considered to be performing a service during the relevant period.

Only in very limited instances are service workers certified for TAA, namely for worker separations must be caused by a reduced demand for their services from a parent or controlling firm or subdivision whose workers produce an article and who are currently under a certification for TAA.

Conclusion

After review of the application and investigative findings, I conclude that there has been no error or misinterpretation of the law or of the facts which would justify reconsideration of the Department of Labor's prior decision. Accordingly, the application is denied.

Signed at Washington, DC, this 24th day of September 2001.
Edward A. Tomchick,
Director, Division of Trade Adjustment Assistance.

[FR Doc. 01-26363 Filed 10-18-01; 8:45 am]

BILLING CODE 4510-30-M